DEPARTMENT OF HOMELAND SECURITY

Coast Guard

[Docket No. USCG-2013-0286]

Proposal To Replace the Existing Movable I-5 Bridge Across the Columbia River With a Fixed Multi-use Bridge Which Will Accommodate Vehicular, Light Rail, Pedestrian and Bicycle Traffic and Will Be Called the Columbia River Crossing; Application Availability

AGENCY: Coast Guard, DHS.

ACTION: Notice of availability and request for comments; notice of public meetings.

SUMMARY: The Coast Guard, under its General Bridge Act of 1946 permit authority, announces the availability of a bridge permit application submitted by Columbia River Crossing (CRC). CRC's proposed project includes a new fixed bridge that will cross the Columbia River adjacent to the existing Interstate 5 bridge connecting Portland, Oregon and Vancouver, Washington. This new fixed bridge will provide 116 feet of vertical clearance above Columbia River Datum to accommodate waterway users. In addition to vehicular, bicycle, and pedestrian traffic, the proposed bridge will carry a light rail line that will extend Portland's light rail service into Vancouver, Washington.

Through this notice, the Coast Guard is soliciting your input on the potential impacts to navigation as a result of the proposed project in order to determine whether the proposal meets the reasonable needs of navigation.

DATES: Comments and related material must either be submitted to our online docket via http://www.regulations.gov on or before June 20, 2013 or reach the Docket Management Facility by that date.

Public meetings on the proposed CRC bridge will be held on Tuesday, June 4, 2013, and Wednesday, June 5, 2013. If you wish to request an oral or sign language interpreter, we must receive your request for one on or before May 26, 2013.

ADDRESSES: You may submit comments identified by docket number USCG-2013-0286 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9826.

To avoid duplication, please use only one of these four methods. See the “Public Participation and Request for Comments” portion of the SUPPLEMENTARY INFORMATION section below for instructions on submitting comments.

The public meetings will be held on Tuesday, June 4, 2013, from 5 p.m. to 8 p.m. at the Red Lion Hotel on the River, 909 N Hayden Island Drive, Portland, Oregon and on Wednesday, June 5, 2013, from 5 p.m. to 8 p.m. at the Hilton Vancouver, 301 West 6th St, Vancouver, Washington.

FOR FURTHER INFORMATION CONTACT: If you have questions on this notice or the public meetings, call or email Mr. Gary Greene, CRC Project Officer, Thirteenth Coast Guard District, U.S. Coast Guard; telephone 206-220-7079, Gary.f.greene@uscg.mil. If you have questions on viewing or submitting material to the docket, call Barbara Hairston, Program Manager, Docket Operations, telephone 202-366-9826.

SUPPLEMENTARY INFORMATION:

Public Participation and Request for Comments

We encourage you to submit comments and related material on the proposed CRC Bridge. All comments received, including comments received at the public meetings, will be posted, without change, to http://www.regulations.gov and will include any personal information you have provided.

Submitting comments: If you submit a comment, please include the docket number for this notice (USCG-2013-0286) and provide a reason for each suggestion or recommendation. You may submit your comments and material online, or by fax, mail or hand delivery, but please use only one of these means. We recommend that you include your name and a mailing address, an email address, or a telephone number in the body of your document so that we can contact you if we have questions regarding your submission.

To submit your comment online, go to http://www.regulations.gov, insert (USCG-2013-0286) in the Search box, look for this notice in the docket and click the Comment button next to it. If you submit your comments by mail or hand delivery, submit them in an unbound format, no larger than 81/2 by 11 inches, suitable for copying and electronic filing. If you submit them by mail and would like to know that they reached the Facility, please enclose a stamped, self-addressed postcard or envelope. We will consider all comments and material received during the comment period.

Viewing the comments: To view the comments go to http://www.regulations.gov, insert (USCG-2013-0286) in the Search box, then click on the “Open Docket Folder” option. If you do not have access to the internet, you may view the docket by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Copies of all written communications from the public meetings will be available for review by interested persons after the meeting on the online docket, USCG-2013-0286 via http://www.regulations.gov.

Transcripts of the meetings will be available for public review approximately 30 days after the meetings. All comments will be made part of the public docket.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

CRC is an entity formed by the Oregon Department of Transportation and the Washington Department of Transportation, for the purpose of improving the Interstate 5 (I-5) corridor between Portland, Oregon and Vancouver, Washington. CRC has proposed to replace the I-5 Bridge across navigable waters of the United States by replacing the existing lift bridge with a fixed bridge providing a vertical clearance of 116 feet above Columbia River Datum. A description of the project (including related bridge permit application documents) and how it would be completed can be found at the project's Web site: http://www.columbiarivercrossing.org/.

The proposed bridge project has been identified as a nationally or regionally significant project under Executive Order 13604, which requires agencies to coordinate and expedite the permitting and environmental review process for specific projects. The existing bridge is a lift bridge, which provides a vertical navigational clearance of 178 feet above the Columbia River Datum. The applicant, CRC, proposes to decrease the vertical navigational clearance to 116 feet above the Columbia River Datum by building a fixed bridge.

As a structure over navigable waters of the United States, the proposed bridge requires a Coast Guard Bridge Permit pursuant to the General Bridge Act of 1946 (33 U.S.C. 525-533). As such, we are requesting your comments on potential impacts to navigation related to the project. A Navigation Impact Report (NIR) was submitted by CRC to the Coast Guard as part of the bridge application. The NIR concluded that a number of waterway users will be impacted by the proposed project. As mitigation negotiations between the impacted users and CRC remain ongoing, the Coast Guard must consider them burdened users in its determination of the reasonable needs of navigation. In addition to the reduced vertical clearance proposed by CRC, the upper turning basin, located immediately downstream of the existing bridge, will be permanently reduced approximately eighteen percent due to the location of the proposed structures.

During construction, CRC proposes to temporarily reduce the vertical and horizontal clearances by varying amounts for approximately five years. Specifically, for 21 months, both barge channels will be completely blocked, requiring a bridge lift for any vertical clearance greater than 39 feet above Columbia River Datum. Following that time period, for an additional 27 months, the vertical clearance will be restricted to approximately 100 feet above Columbia River Datum. The U.S. Army Corps of Engineers (USACE) is reviewing a proposal by CRC to realign the federal channel to accommodate the proposed project. A ship simulation will be conducted by the USACE in early fall 2013 to determine the impact on the navigation channel during and after construction of the proposed project.

Our publication of this notice begins a 45-day comment period and provides information on how to participate in the process. The process includes an opportunity to submit comment via the docket as outlined below, or through oral comments at two public meetings. The Bridge Permit Application, Navigation Impact Report, and other materials referenced here, as well as additional documents available to assist the public during this comment period, are available on the Columbia River Crossing Web site at http://www.columbiarivercrossing.org/Library/Type.aspx?CategoryID=13.

The Coast Guard will hold two public meetings on the CRC application (one in Portland, Oregon and one in Vancouver, Washington) to provide an opportunity for oral comments. The specific times and locations are as follows:

(1) The first public meeting will be held on Tuesday, June 4, 2013, from 5 p.m. to 8 p.m. at the Red Lion Hotel on the River, 909 N Hayden Island Drive, Portland, Oregon

(2) The second public meeting will be held on Wednesday, June 5, 2013, from 5 p.m. to 8 p.m. at the Hilton Vancouver, 301 West 6th St, Vancouver, Washington.

The purpose of these meetings is to consider an application submitted by CRC for Coast Guard approval of the proposed bridge across the Columbia River, mile 106.5, between Portland, Oregon and Vancouver, Washington. All interested parties may present data, views and comments, orally or in writing, concerning the impact of the proposed bridge project on navigation.

The public meetings will be informal. A representative of the Coast Guard will preside, make a brief opening statement and announce the procedure to be followed at the meetings. Attendees who request an opportunity to present oral comments at a public meeting must sign up to speak at the meeting site at the designated time of the meeting. Speakers will be called in the order of receipt of the request. Attendees at the meetings who wish to present oral comment, and have not previously made a request to do so, will follow those having submitted a request, as time permits. All oral presentations will be limited to three minutes. The public meetings may end early if all present wishing to speak have done so. Any oral comments provided at the meetings will be transcribed and placed into the docket by the Coast Guard. Written comments and related material may also be submitted to Coast Guard personnel specified at that meeting for placement into the docket by the Coast Guard.

Information on Services for Individuals With Disabilities

For information on facilities or services for individuals with disabilities or to request special assistance at the public meeting, contact Mr. Gary Greene, CRC Project Officer, U.S. Coast Guard, at the telephone number or email address indicated under the FOR FURTHER INFORMATION CONTACT section of this notice. Any requests for an oral or sign language interpreter must be received on or before May 26, 2013.

Authority

This notice is issued under authority of 33 U.S.C. 525 and 401(1), 33 CFR 115.60, and DHS Delegation 0170.1(67).

Dated: May 1, 2013.
Brian L. Dunn,
Administrator, Office of Bridge Programs, U.S. Coast Guard.

[FR Doc. 2013-10685 Filed 5-1-13; 4:15 pm]

BILLING CODE 9110-04-P